DEPARTMENT OF LABOR

Mine Safety and Health Administration

Proposed Information Collection Request Submitted for Public Comment and Recommendations; Application for Waiver of Surface Facilities Requirement

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before August 13, 2001.

ADDRESSES: Send comments to Lynnette M. Haywood, Deputy Director, Administration and Management, 4015 Wilson Boulevard, Room 611, 4015, Arlington, VA 22203-1984. Commenters are encouraged to send their comments on a computer disk, or via Internet E-mail to lhaywood@msha.gov, along with an original printed copy. Ms. Haywood can be reached at (703) 235-1383 (voice), or (703) 235-1563 (facsimile).

FOR FURTHER INFORMATION CONTACT: Lynnette M. Haywood, Deputy Director, Administration and Management, U.S. Department of Labor, Mine Safety and Health Administration, Room 611, 4015 Wilson Boulevard, Arlington, VA 22203-1984. Ms. Haywood can be reached at lhaywood@msha.gov (Internet E-mail), (703) 235-1383 (voice), or (703) 235-1563 (facsimile).

SUPPLEMENTARY INFORMATION:

I. Background

Title 30 sections 71.400 through 71.402 and 75.1712-1 through 75.1712-3 require coal mine operators to provide bathing facilities, clothing change rooms, and sanitary flush toilet facilities in a location that is convenient for use of the miners. If the operator is unable to meet any or all of the requirements, he/she may apply for a waiver. Title 30 CFR sections 71.403, 71.404, 75.1712-4 and 75.1712-5 provide procedures by which an operator may apply for and be granted a waiver. Applications are filed with the District Manager for the district in which the mine is located and contain the name and address of the mine operator, name and location of the mine, and a detailed statement of the grounds upon which the waiver is requested and the period of time for which it is requested. Waivers for surface coal mines may be granted for a period not to exceed one year; requests for an annual extension may be sought by the operator. Waivers for underground coal mines may be granted for extended periods of time based on the information provided by the mine operator in the request for a waiver.

The purpose for the waiver is to assure the conditions at the mine make it impractical for the mine operator to provide the required facilities, and to document the circumstances for granting of the waiver. This gives the mine operator written documentation that the requirement(s) of the standard have been waived by MSHA and MSHA inspection personnel will not require the mine operator to comply with the part(s) of the standard included in the waiver. Without this written documentation MSHA inspection personnel can not be assured that a mine operator is not required to provide the require sanitary facilities.

II. Desired Focus of Comments

Currently, the Mine Safety and Health Administration (MSHA) is soliciting comments concerning the proposed extension of the information collection related to the Application for Waiver of Surface Facilities Requirement. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act Submissions (http://www.msha.gov/regspwork.htm)”, or by contacting the employee listed above in the FOR FURTHER INFORMATION CONTACT section of this notice for a hard copy.

III. Current Action

This information is necessary in order to assure the mine operator is not required to provide the sanitary facilities as required by the standard. This information provides written documentation that MSHA has waived the requirements for the applicable part(s) of the standard as outlined in the waiver.

Type of Review: Extension.

Agency: Mine Safety and Health Administration.

Title: Application for Waiver of Surface Facilities Requirement.

OMB Number: 1219-0024.

Affected Public: Business or other for-profit.

Cite/Reference | Total respondents | Frequency | Total responses | Average time per response (minutes) | Burden hours
71.403 71.404 Initial | 124 | On occasion | 124 | 30 | 62
71.403 71.404 Extensions | 314 | Annually | 314 | 20 | 105
75.1712-4 75.1712-5 Initial | 108 | On occasion | 108 | 30 | 54
75.1712-4 75.1712-5 Extension | 0 | On occasion | 0 | 20 | 0
Totals | 546 |  | 546 |  | * 221
* Discrepancies due to rounding.

Total Burden Cost (capital/startup): $0.

Total Burden Cost (operating/maintaining): $0.

Comments submitted in response to this notice will be summarized and/or included in the request for Office of Management and Budget approval of the information collection request; they will also become a matter of public record.

Dated: June 7, 2001.
Lynnette M. Haywood,
Deputy Director, Administration and Management.

[FR Doc. 01-15036 Filed 6-13-01; 8:45 am]

BILLING CODE 4510-43-M